DEPARTMENT OF ENERGY

Federal Energy Regulatory Commission

[Docket No. EL05-122-000]

South Carolina Electric and Gas Company; Notice of Institution of Proceeding and Refund Effective Date

June 17, 2005.

On June 16, 2005, the Commission issued an order that instituted a proceeding in Docket No. EL05-122-000, pursuant to section 206 of the Federal Power Act (FPA), 16 U.S.C. 824e, concerning the justness and reasonableness of South Carolina Electric and Gas Company's (SCE&G) market-based rates in the SCE&G control area. South Carolina Electric and Gas Company, 111 FERC ¶ 61,410 (2005).

The refund effective date in Docket No. EL05-122-000, established pursuant to section 206(b) of the FPA, will be 60 days from the date of publication of this notice in the Federal Register.

Magalie R. Salas,
Secretary.

[FR Doc. E5-3963 Filed 7-25-05; 8:45 am]

BILLING CODE 6717-01-P